DEPARTMENT OF COMMERCE

International Trade Administration

[A-580-876, A-489-822]

Welded Line Pipe From the Republic of Korea and the Republic of Turkey: Antidumping Duty Orders

AGENCY: Enforcement and Compliance, International Trade Administration, Department of Commerce.

SUMMARY: Based on affirmative final determinations by the Department of Commerce (the Department) and the International Trade Commission (the ITC), the Department is issuing antidumping duty orders on welded line pipe from the Republic of Korea (Korea) and the Republic of Turkey (Turkey).

DATES: Effective Date: December 1, 2015.

FOR FURTHER INFORMATION CONTACT: Ross Belliveau (Korea) or David Crespo (Turkey), AD/CVD Operations, Office II, Enforcement and Compliance, International Trade Administration, U.S. Department of Commerce, 1401 Constitution Avenue NW., Washington, DC 20230; telephone: (202) 482-4952 and (202) 482-3693, respectively.

SUPPLEMENTARY INFORMATION:

Background

In accordance with sections 735(d) and 777(i)(1) of the Tariff Act of 1930, as amended (the Act), and 19 CFR 351.210(c), on October 13, 2015, the Department published its affirmative final determinations in the less-than-fair-value (LTFV) investigations of welded line pipe from Korea and Turkey.¹ Pursuant to section 735(e) of the Act and 19 CFR 351.224(f), the Department published its amended final determination in the LTFV investigation of welded line pipe from Korea on November 10, 2015.² On November 20, 2015, the ITC notified the Department of its affirmative determinations that an industry in the United States is materially injured within the meaning of section 735(b)(1)(A)(i) of the Act, by reason of the LTFV imports of welded line pipe from Korea and Turkey.³

¹ See Welded Line Pipe From the Republic of Turkey: Final Determination of Sales at Less Than Fair Value, 80 FR 61362 (October 13, 2015) (Turkey Final Determination), and Welded Line Pipe From the Republic of Korea: Final Determination of Sales at Less Than Fair Value, 80 FR 61366 (October 13, 2015).

² See Welded Line Pipe From the Republic of Korea: Amended Final Determination of Sales at Less Than Fair Value, 80 FR 69637 (November 10, 2015).

³ See Letter to Christian Marsh, Deputy Assistant Secretary of Commerce for Enforcement and Compliance, from Meredith Broadbent, Chairman of the U.S. International Trade Commission, regarding certain welded line pipe from Korea and Turkey (November 20, 2015). See also Certain Welded Line Pipe from Korea and Turkey, USITC Investigation Nos. 701-TA-525 and 731-TA-1260-1261 (Final), USITC Publication 4580 (November 2015).

Scope of the Orders

The merchandise covered by these orders is circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of these orders.

The welded line pipe that is subject to these orders is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of these orders is dispositive.

Antidumping Duty Orders

As stated above, on November 20, 2015, in accordance with section 735(d) of the Act, the ITC notified the Department of its final determinations in these investigations, in which it found material injury with respect to welded line pipe from Korea and Turkey.⁴ Therefore, in accordance with section 735(c)(2) of the Act, we are issuing these antidumping duty orders. Because the ITC determined that imports of welded line pipe from Korea and Turkey are materially injuring a U.S. industry, unliquidated entries of such merchandise from Korea and Turkey, entered or withdrawn from warehouse for consumption, are subject to the assessment of antidumping duties.

⁴ Id.

Therefore, in accordance with section 736(a)(1) of the Act, the Department will direct U.S. Customs and Border Protection (CBP) to assess, upon further instruction by the Department, antidumping duties equal to the amount by which the normal value of the merchandise exceeds the export price (or constructed export price) of the merchandise, for all relevant entries of welded line pipe from Korea and Turkey. Antidumping duties will be assessed on unliquidated entries of welded line pipe from Korea and Turkey entered, or withdrawn from warehouse, for consumption on or after May 22, 2015, the date of publication of the preliminary determinations,⁵ but will not include entries occurring after the expiration of the provisional measures period and before publication of the ITC's final injury determination as further described below.

⁵ See Welded Line Pipe From the Republic of Korea: Preliminary Determination of Sales at Less Than Fair Value and Postponement of Final Determination, 80 FR 29620 (May 22, 2015) (Korea Preliminary Determination); and Welded Line Pipe From the Republic of Turkey: Preliminary Determination of Sales at Less Than Fair Value and Postponement of Final Determination, 80 FR 29617 (May 22, 2015) (Turkey Preliminary Determination).

Suspension of Liquidation

In accordance with section 735(c)(1)(B) of the Act, we will instruct CBP to continue to suspend liquidation on all relevant entries of welded line pipe from Korea and Turkey. These instructions suspending liquidation will remain in effect until further notice.

We will also instruct CBP to require cash deposits equal to the amounts as indicated below. Accordingly, effective on the date of publication of the ITC's final affirmative injury determinations, CBP will require, at the same time as importers would normally deposit estimated duties on this subject merchandise, a cash deposit equal to the estimated weighted-average dumping margins listed below.⁶ The relevant all-others rates apply to all producers or exporters not specifically listed. For the purpose of determining cash deposit rates, the estimated weighted-average dumping margins for imports of subject merchandise from Turkey will be adjusted, as appropriate, for export subsidies found in the final determination of the companion countervailing duty investigation of this merchandise imported from Turkey.⁷

⁶ See section 736(a)(3) of the Act.

⁷ See Turkey Final Determination, 80 FR at 61364.

Provisional Measures

Section 733(d) of the Act states that instructions issued pursuant to an affirmative preliminary determination may not remain in effect for more than four months, except where exporters representing a significant proportion of exports of the subject merchandise request the Department to extend that four-month period to no more than six months. At the request of exporters that account for a significant proportion of welded line pipe from Korea and Turkey, we extended the four-month period to six months in each case.⁸ In the underlying investigations, the Department published the preliminary determinations on May 22, 2015. Therefore, the extended period, beginning on the date of publication of the preliminary determinations, ended on November 18, 2015. Furthermore, section 737(b) of the Act states that definitive duties are to begin on the date of publication of the ITC's final injury determination.

⁸ See Korea Preliminary Determination and Turkey Preliminary Determination.

Therefore, in accordance with section 733(d) of the Act and our practice, we will instruct CBP to terminate the suspension of liquidation and to liquidate, without regard to antidumping duties, unliquidated entries of welded line pipe from Korea and Turkey entered, or withdrawn from warehouse, for consumption after November 18, 2015, the date on which the provisional measures expired, until and through the day preceding the date of publication of the ITC's final injury determinations in the Federal Register. Suspension of liquidation will resume on the date of publication of the ITC's final determination in the Federal Register.

The weighted-average dumping margins are as follows:

| Exporter/ Producer | Dumping margins (percent)
Korea | Hyundai HYSCO | 6.23
| SeAH Steel Corporation | 2.53
| All Others | 4.38

| Exporter/ Producer | Dumping margins (percent) | Cash deposit (percent)
Turkey | Borusan Istikbal Ticaret | 22.95 | 0.00
| Borusan Mannesmann Boru Sanayi ve Ticaret A.S | 22.95 | 0.00
| Çayirova Boru Sanayi ve Ticaret A.S./Yücel Boru Ithalat-Ihracat ve Pazarlama A.S | 22.95 | 22.09
| Tosçelik Profil ve Sac Endustrisi A.S./Tosyali Dis Ticaret A.S | 6.66 | 5.80
| All Others | 7.10 | 6.24
Note: The cash deposit rates are adjusted to account for the applicable export subsidy rate of 27.32 percent for Borusan Istikbal Ticaret and Borusan Mannesmann Boru Sanayi ve Ticaret A.S.; and 0.86 percent for Çayirova Boru Sanayi ve Ticaret A.S./Yücel Boru Ithalat-Ihracat ve Pazarlama A.S., Tosçelik Profil ve Sac Endustrisi A.S./Tosyali Dis Ticaret A.S., and all other exporters/producers in Turkey.

This notice constitutes the antidumping duty orders with respect to welded line pipe from Korea and Turkey pursuant to section 736(a) of the Act. Interested parties can find a list of antidumping duty orders currently in effect at http://enforcement.trade.gov/stats/iastats1.html.

These orders are published in accordance with section 736(a) of the Act and 19 CFR 351.211.

Dated: November 23, 2015.
Paul Piquado,
Assistant Secretary for Enforcement and Compliance.

[FR Doc. 2015-30506 Filed 11-30-15; 8:45 am]

BILLING CODE 3510-DS-P